DEPARTMENT OF TRANSPORTATION

Federal Aviation Administration

[Docket No. FAA-2025-2463]

Agency Information Collection Activities: Requests for Comments; Clearance of Renewed Approval of Information Collection: 2120-0776, Part 107 Authorizations and Waivers Under 14 CFR Part 107 and Airspace Authorizations in Controlled Airspace Under 49 U.S.C. 44809(a)(5)

AGENCY: Federal Aviation Administration (FAA), DOT.

ACTION: Notice and request for comments.

SUMMARY: In accordance with the Paperwork Reduction Act of 1995, FAA invites public comments about our intention to request the Office of Management and Budget (OMB) to renew Information Collection 2120-0776. The purpose of this notice is to allow 60 days for public comment. The FAA proposes collecting information related to requests made under 49 U.S.C. 44809(a)(5) and 14 CFR part 107 to operate Unmanned Aircraft Systems (UAS) in controlled airspace. Information collected under 14 CFR part 107 is currently approved under Information Collection 2120-0768. The FAA proposes to combine these collections because both use the collected information to make determinations whether to authorize or deny the requested authorization of UAS operation in controlled airspace. The proposed information collection is necessary to issue such authorizations or denials consistent with the FAA's mandate to ensure safe and efficient use of national airspace.

DATES: Written comments should be submitted by November 3, 2025.

ADDRESSES: Please send written comments:

By Electronic Docket: www.regulations.gov (Enter docket number into search field).

By mail: Atlantic City International Airport, FAA William J. Hughes Technical Center, Bldg. 316, Column I, Desk 4S409, Atlantic City, NJ 08405.

By fax: 202-493-2251.

FOR FURTHER INFORMATION CONTACT: Andrew Shutt by email at Andrew.C.Shutt@faa.gov; phone: 817-222-4670.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0776.

Title: Part 107 Authorizations and Waivers under 14 CFR part 107 and Airspace Authorizations in Controlled Airspace under 49 U.S.C. 44809(a)(5).

Form Numbers: Not Applicable.

Type of Review: Renewal of an existing Information Collection.

Background: There has been an increased number of operations of small Unmanned Aircraft Systems in the National Air Space (NAS) in recent years and regulations and statutes have been enacted to establish the use of small UAS in the NAS. Included in these is 14 CFR part 107 and 49 U.S.C. 44809(a)(5). Section 107.41 states that “no person may operate a small unmanned aircraft in Class B, Class C, or Class D airspace or within the lateral boundaries of the surface areas of Class E airspace designated for an airport unless that person has prior authorization from Air Traffic Control (ATC).” Additionally, 49 U.S.C. 44809(a)(5) states that a strictly recreational user of small UAS must have authorization from the FAA to fly a small UAS “in Class B, Class C, or Class D airspace or within the lateral boundaries of the surface areas of Class E airspace designated for an airport.” Such authorizations may be obtained in the form of either an airspace authorization issued by the FAA or a waiver of the authorization requirements of 14 CFR 107.41 (known as an airspace waiver). In order to process authorization and airspace waiver requests, the FAA requires the operator's name, the operator's contact information, and information related to the date, place, and time of the requested small UAS operation. This information is necessary for the FAA to meet its statutory mandate of maintaining a safe and efficient national airspace. See 49 U.S.C. 40103, 44701, and 44807. The FAA will use the requested information to determine if the proposed UAS operation can be conducted safely. The FAA proposes to use the Low Altitude Authorization and Notification Capability (LAANC) and the DroneZone web portal to process authorization requests from the public to conduct Part 107 flight operations pursuant to Section 107.41 and 49 U.S.C. 44809(a)(5). The FAA also uses the DroneZone web portal to process requests from the public to conduct Part 107 flight operations that requires an airspace waiver.

Respondents: Small UAS operators seeking to conduct flight operations under 14 CFR part 107 or 49 U.S.C. 44809(a)(5) within controlled airspace or flight operations that require waiver from the provisions of 14 CFR 107.41. Between 2025-2028, the FAA estimates that it will receive a total of 3,052,432 requests for airspace authorization.

Frequency: The requested information will need to be provided each time a respondent requests an airspace authorization to operate a small UAS under 14 CFR part 107 or 49 U.S.C. 44809(a)(5) in controlled airspace. Additionally, the requested information will need to be provided each time a respondent requests a waiver from the provisions of 14 CFR 107.41 to operate a small UAS in controlled airspace.

Estimated Average Burden per Response: The FAA estimates the respondents using LAANC will take five (5) minutes per airspace authorization request and those using the web portal will take thirty (30) minutes per request. For those making airspace waiver requests through the web portal, the FAA estimates it takes 30 minutes per request.

Estimated Total Annual Burden: For airspace authorizations, the FAA estimates that the average annual burden will be 125,035 burden hours. This includes 76,373 burden hours for 920,154 LAANC respondents and 48,662 burden hours for 97,324 web portal respondents per year.

Issued in Washington, DC, on August 27, 2025.
Barbara L. Hall,
FAA Information Collection Clearance Officer, Performance, Policy, and Records Management, Branch, ASP-110.

[FR Doc. 2025-16714 Filed 8-29-25; 8:45 am]

BILLING CODE 4910-13-P